DEPARTMENT OF HOMELAND SECURITY

Transportation Security Administration

Extension of Agency Information Collection Activity Under OMB Review: Highway Corporate Security Review (CSR)

AGENCY: Transportation Security Administration, DHS.

ACTION: Notice of reinstatement.

SUMMARY: This notice is a correction notice for the previous 30-day notice, 74 FR 57326 that was published on November 5, 2009 announcing that the Transportation Security Administration (TSA) forwarded the Information Collection Request (ICR), OMB control number 1652-0036, abstracted below to the Office of Management and Budget (OMB) for review and approval of a reinstatement of a formerly approved collection under the Paperwork Reduction Act. The ICR had not been reviewed by OMB, and will be forwarded to OMB within 30 days of this Federal Register notice. The ICR describes the nature of the information collection and its expected burden. TSA published a Federal Register notice, with a 60-day comment period soliciting comments, of the following collection of information on June 15, 2009, 74 FR 28264. TSA received two comments and they have been addressed by letters to the commenters. The collection involves the assessment of current security practices in the highway and motor carrier industry by way of its Highway Corporate Security Review Program, which encompasses site visits and interviews, and is part of the larger domain awareness, prevention and protection program supporting TSA's and the Department of Homeland Security's missions.

DATES: Send your comments by May 24, 2010. A comment to OMB is most effective if OMB receives it within 30 days of publication.

ADDRESSES: Interested persons are invited to submit written comments on the proposed information collection to the Office of Information and Regulatory Affairs, Office of Management and Budget. Comments should be addressed to Desk Officer, Department of Homeland Security/TSA, and sent via electronic mail to oira_submission@omb.eop.gov or faxed to (202) 395-6974.

FOR FURTHER INFORMATION CONTACT: Joanna Johnson, Office of Information Technology, TSA-11, Transportation Security Administration, 601 South 12th Street, Arlington, VA 20598-6011; telephone (571) 227-3651; e-mail joanna.johnson@dhs.gov.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at http://www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

TSA published a notice in the Federal Register on June 15, 2009 (74 FR 28264) announcing our intent to reinstate the OMB control number, 1652-0036, for this information collection. In response to this notice, TSA has received comments from the American Trucking Association (ATA) and the American Bus Association (ABA). TSA has responded to ATA's and ABA's concerns and thanked them for their comments.

Information Collection Requirement

Title: Corporate Security Review (CSR).

Type of Request: Reinstatement.

OMB Control Number: 1652-0036.

Form(s): Corporate Security Review Interview Form.

Affected Public: Owners and operators of school bus, motor coach, and trucking (general freight and hazardous materials) companies, privately-owned assets, State Departments of Transportation, and State Departments of Education.

Abstract: TSA is seeking to reinstate its OMB approval for this information collection so that TSA can continue to ascertain minimum security standards and identify coverage gaps, activities that are critical to carrying out its transportation security mission. TSA conducts this collection through voluntary face-to-face visits at the headquarters of the subject surface transportation owners/operators. During the site visit, TSA personnel complete the CSR form, which asks security-related questions. This assessment is necessary for TSA to establish the current state of security practices for highway modes of transportation. TSA will then be able to make policy and programmatic decisions to improve the overall security posture within the surface transportation community. The data collected also can be utilized to develop security practice assessments and issue security guidelines, best practices, and lessons learned for the stakeholder community.

Number of Respondents: 400.

Estimated Annual Burden Hours: An estimated 1,200 hours annually.

Issued in Arlington, Virginia on April 15, 2010.
Joanna Johnson,
Paperwork Reduction Act Officer, Office of Information Technology.

[FR Doc. 2010-9223 Filed 4-21-10; 8:45 am]

BILLING CODE 9110-05-P